DEPARTMENT OF TRANSPORTATION

Federal Railroad Administration

[Docket Number FRA-2006-24812]

Petition for Waiver of Compliance and Notice of Public Hearing; Correction

AGENCY: Federal Railroad Administration, Department of Transportation.

ACTION: Notice; correction.

SUMMARY: On April 3, 2015 (80 FR 18292), the Federal Railroad Administration (FRA) provided notice of a public hearing to receive views, data, and comments regarding BNSF Railway's (BNSF) petition for modification and extension of its waiver of compliance from certain provisions of the Federal railroad safety regulations contained in title 49 Code of Federal Regulations part 232, Brake System Safety Standards for Freight and Other Non-Passenger Trains and Equipment, in Docket Number FRA-2006-24812. The notice contained an incorrect date of the public hearing.

FOR FURTHER INFORMATION CONTACT: Steve Zuiderveen, Railroad Safety Specialist, FRA, 1200 New Jersey Avenue SE., Washington, DC 20590, (202) 493-6337, Steven.Zuiderveen@dot.gov.

Correction

In the Federal Register of April 3, 2015, in FR Doc. 2015-07656, on page 18292, in the second column, correct the paragraph to read:

In addition, FRA is extending the comment period for this waiver petition to June 21, 2015, to allow adequate time for any additional comments to be submitted following the public hearing on May 21, 2015.

Issued in Washington, DC, on April 11, 2015.
Ron Hynes,
Director, Office of Technical Oversight.

[FR Doc. 2015-08938 Filed 4-16-15; 8:45 am]

BILLING CODE 4910-06-P